DEPARTMENT OF AGRICULTURE

Forest Service

Fresno County Resource Advisory Committee

AGENCY: Forest Service, USDA.

ACTION: Notice of meeting.

SUMMARY: The Fresno County Resource Advisory Committee will be meeting in Prather, California on March 31st and Clovis, California on April 2nd. The purpose of the meeting on March 31st will be to accept and review project proposals. The purpose of the April 2nd meeting will be to approve and vote on projects.

DATES: The meetings will be held on March 31, 2009 from 6 p.m. to 8:30 p.m. in Prather, CA and April 2, 2009 from 6 p.m. to 9 p.m. in Clovis, CA.

ADDRESSES: The meeting on March 31st will be held at the High Sierra Ranger District, 29688 Auberry Rd., Prather, CA and the meeting on April 2 will be held at the Sierra National Forest Supervisor's Office, 1600 Tollhouse Rd., Clovis, CA. Send written comments to Robbin Ekman, Fresno County Resource Advisory Committee Coordinator, c/o Sierra National Forest, High Sierra Ranger District, 29688 Auberry Road, Prather, CA 93651 or electronically to rekman@fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. Those who wish to be put on the meeting agenda to present a project proposal must contact Robbin Ekman, Committee Coordinator 1 week prior to the March 31st meeting. Agenda items to be covered include: (1) Review Project Proposals.

Dated: February 25, 2009.
Ray Porter,
District Ranger.

[FR Doc. E9-4576 Filed 3-5-09; 8:45 am]

BILLING CODE 3410-11-M